DEPARTMENT OF TRANSPORTATION

Federal Railroad Administration

[Docket No. FRA-2019-0004-N-7]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Requests (ICRs) abstracted below to the Office of Management and Budget (OMB) for review and comment. The ICRs describe the information collections and their expected burden. On February 22, 2019, FRA published a notice providing a 60-day period for public comment on the ICRs.

DATES: Interested persons are invited to submit comments on or before July 1, 2019.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, Federal Railroad Administration, 1200 New Jersey Avenue SE, Room W33-497, Washington, DC 20590 (telephone: (202) 493-6292); or Ms. Kim Toone, Information Collection Clearance Officer, Office of Administration, Office of Information Technology, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On February 22, 2019, FRA published a 60-day notice in the Federal Register soliciting comment on the ICRs for which it is now seeking OMB approval. See 84 FR 5807. FRA received no comments in response to this notice.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Safety Appliance Standards Guidance Checklist Forms.

OMB Control Number: 2130-0565.

Abstract: Sample car/locomotive inspections are performed upon request as a courtesy to the car manufacturers to ensure that the equipment is built in accordance with the Code of Federal Regulations (CFR). Car manufacturers that desire to have FRA review their equipment for compliance with the CFR may submit their request to FRA for review at least 60 days prior to initial construction. Although a sample car inspection is not required, most car manufacturers today request the inspection. By helping ensure that rolling stock equipment is built compliant with the CFR, the sample car inspection program reduces the safety risk to railroad employees, passengers, and the general public.

In an ongoing effort to conduct more thorough and effective inspections of freight railroad equipment and to further enhance safe rail operations, FRA has developed a group of guidance checklist forms that facilitate railroad, rail car owner, and rail equipment manufacturer compliance with 49 CFR part 231, Railroad Safety Appliance Standards. Because 49 CFR part 231 was supplemented and expanded several years ago, FRA developed Forms FRA F 6180.161(a)-(k) to cover new types of cars. For these new types of cars, FRA follows the standard established by the Association of American Railroads (AAR), Standard 2044 or S-2044.

A car manufacturer's request to FRA for a sample car inspection generally includes a logo, company name, signature block, specific drawings, reflectorization application, and engineering information, such as test or modeling of components. In addition, the request may include car reporting marks and the number of cars that would be constructed in the car series. The request would also provide the inspection location, contact person, title, and contact information. The request typically contains several paragraphs explaining the cited regulations that the car manufacturer believes are related to the car construction. For the many cars built today considered cars of special construction, detailed information explaining the similarities between the car being built and the nearest car type identified in the regulation is provided to help determine which regulatory requirements are applicable. Based on the information submitted, a formal on-site inspection may be required. FRA reviews the information and responds to the car manufacturer.

Type of Request: Extension without change of a currently approved information collection.

Affected Public: Businesses (Car manufacturers).

Form(s): FRA F 6180.161(a)-(k).

Respondent Universe: Car manufacturers/state inspectors.

Frequency of Submission: Annually.

Total Estimated Annual Responses: 121.

Total Estimated Annual Burden: 121 hours.

Total Estimated Annual Burden Hour Dollar Cost Equivalent: $7,406.

Title: System for Telephonic Notification of Unsafe Conditions at Highway-Rail and Pathway Grade Crossings.

OMB Control Number: 2130-0591.

Abstract: The collection of information is set forth under 49 CFR part 234, Grade Crossing Safety, implementing Section 205 of the Rail Safety Improvement Act of 2008 (RSIA), Public Law 110-432, Div. A (Oct. 16, 2008). Generally, the rule is intended to increase safety at highway-rail and pathway grade crossings. Section 205 of the RSIA mandates that the Secretary of Transportation require certain railroad carriers to take a series of specified actions related to setting up and using systems by which the public can notify the railroads by toll-free telephone number of safety problems at their highway-rail and pathway grade crossings. Such systems are commonly known as Emergency Notification Systems or ENS. The information collected is used by FRA to ensure that railroad carriers establish and maintain a toll-free telephone service to report unsafe conditions at public and private highway-rail and pathway grade crossings for rights-of-way over which they dispatch trains.

Type of Request: Extension with change (revised estimates) of a currently approved information collection.

Affected Public: Businesses.

Form(s): N/A.

Respondent Universe: 625 Railroads.

Frequency of Submission: On occasion.

Total Estimated Annual Responses: 298,292.

Total Estimated Annual Burden: 15,305 hours.

Total Estimated Annual Burden Hour Dollar Cost Equivalent: $1,091,934.

Title: Control of Alcohol and Drug Use in Railroad Operations: Post-Accident Toxicological Testing for Controlled Substances.

OMB Control Number: 2130-0598.

Abstract: Since 1985, as part of its accident investigation program, FRA has conducted post-accident alcohol and drug tests on railroad employees who have been involved in serious train accidents (50 FR 31508, Aug. 2, 1985). If an accident meets FRA's criteria for post-accident testing (see 49 CFR 219.201), FRA conducts tests for alcohol and for certain drugs classified as controlled substances under the Controlled Substances Act (CSA), Title II of the Comprehensive Drug Abuse Prevention Substances Act of 1970 (CSA, 21 U.S.C. 801 et seq.). The Drug Enforcement Agency, which is primarily responsible for enforcing the CSA, oversees the classification of controlled substances into five schedules. Schedule I contains illicit drugs, such as heroin, which has no legitimate medical use under Federal law. Currently, FRA routinely conducts post-accident tests for the following controlled substances: marijuana, cocaine, phencyclidine, and certain opioids, amphetamines, barbiturates, and benzodiazepines. Controlled substances are drugs or chemicals that are prohibited or strictly regulated because of their potential for abuse or addiction. FRA reports results of testing for controlled substances to the railroad's Medical Review Officer (MRO) and the employee, and the MRO must review positive results and report results of the review to FRA. (See 49 CFR 219.211(b) and (c)).

Type of Request: Extension with change (revised estimates) of a currently approved information collection.

Affected Public: Businesses.

Form(s): N/A.

Respondent Universe: 692 Railroads.

Frequency of Submission: On occasion.

Total Estimated Annual Responses: 18.

Total Estimated Annual Burden: 3 hours.

Total Estimated Annual Burden Hour Dollar Cost Equivalent: $330.

Under 44 U.S.C. 3507(a) and 5 CFR 1320.5(b) and 1320.8(b)(3)(vi), FRA informs all interested parties that it may not conduct or sponsor, and a respondent is not required to respond to a collection of information unless it displays a currently valid OMB control number.

Authority: 44 U.S.C. 3501-3520.

Brett A. Jortland,
Acting Chief Counsel.

[FR Doc. 2019-11222 Filed 5-29-19; 8:45 am]

BILLING CODE 4910-06-P